DEPARTMENT OF LABOR

Employment and Training Administration

[Funding Opportunity Number: FOA-ETA-15-01]

Notice of Availability of Funds and Funding Opportunity Announcement for the National Guard Youth ChalleNGe and Job ChalleNGe Program

AGENCY: Employment and Training Administration, Labor.

ACTION: Notice of Funding Opportunity Announcement (FOA).

SUMMARY: The Employment and Training Administration (ETA), U.S. Department of Labor, announces the availability of approximately $12,000,000 in grant funds authorized by Section 171, Pilot and Demonstration Projects, of the Workforce Investment Act, to: (1) Test the effectiveness of expanding the National Guard Youth ChalleNGe Program for youth who have come in contact with the juvenile justice system for committing a status offense or a delinquent act (court-involved youth), and (2) add and test an additional job training component (DOL Job ChalleNGe) to the program for court-involved youth and youth that have had no contact with the juvenile justice system (non-court-involved youth).

The purpose of this program is to improve the long-term labor market prospects of youth who successfully complete the six-month residential phase of the National Guard Youth ChalleNGe program. The DOL Job ChalleNGe component will build on the Youth ChalleNGe program's eight core components—academic excellence, life coping skills, job skills, health and hygiene, responsible citizenship, community service, leadership/followership, and physical fitness—by emphasizing programming focused on improving program participants' employment outcomes.

The complete FOA and any subsequent FOA amendments in connection with this solicitation are described in further detail on ETA's Web site at http://www.doleta.gov/grants/ or on http://www.grants.gov. The Web sites provide application information, eligibility requirements, review and selection procedures, and other program requirements governing this solicitation.

DATES: The closing date for receipt of applications under this announcement is January 27, 2015. Applications must be received no later than 4:00:00 p.m. Eastern Time.

FOR FURTHER INFORMATION CONTACT: Pia Miller, 200 Constitution Avenue NW., Room N-4716, Washington, DC 20210; Telephone: 202-693-3153.

The Grant Officer for this FOA is Melissa Abdullah.

Signed December 12, 2014 in Washington, DC
Eric D. Luetkenhaus,
Grant Officer/Division Chief, Employment and Training Administration.

[FR Doc. 2014-29585 Filed 12-17-14; 8:45 am]

BILLING CODE 4510-FT-P